Title 3—

The President

Proclamation 9350 of October 15, 2015

Minority Enterprise Development Week, 2015

By the President of the United States of America

A Proclamation

America is at its best when all our people have the tools and resources they need to pursue their dreams and meet their full potential. Entrepreneurs help spur innovation and prosperity, and ensuring that minority-owned businesses remain strong and vibrant is vital to driving our Nation's progress. During Minority Enterprise Development Week, we recognize the crucial role they play in our economy, and we recommit to upholding one of our founding ideals: that all people—regardless of what they look like or where they come from—can reach for their piece of the American dream and contribute to our country's success.

Minority-owned firms comprise over one-fifth of our Nation's businesses and add $1 trillion in output to our economy each year. My Administration is committed to supporting these engines of growth, which is why we have cut taxes 18 times for America's small businesses—of which roughly 15 percent are minority-owned. Many minority enterprises also depend on exports as an important source of revenue, and I am pursuing a trade agenda that will allow our businesses to be at the center of today's global economy—further enabling them to expand their horizons while strengthening our middle class. And in an effort to equip the business community with the most relevant information needed to navigate bureaucracy, we launched www.Business.USA.gov, where firms can find services to help them hire more people and grow their enterprise.

For over two centuries, America has advanced thanks to the grit and inherent ingenuity of our people. Throughout Minority Enterprise Development Week, let us rededicate ourselves to continuing this legacy by empowering all our citizens to utilize their unique talents and abilities and by working to ensure our minority-owned enterprises have every chance to flourish and succeed.

NOW, THEREFORE, I, BARACK OBAMA, President of the United States of America, by virtue of the authority vested in me by the Constitution and the laws of the United States, do hereby proclaim October 18 through October 24, 2015, as Minority Enterprise Development Week. I call upon all Americans to celebrate this week with appropriate programs, ceremonies, and activities to recognize the many contributions of our Nation's minority enterprises.

IN WITNESS WHEREOF, I have hereunto set my hand this fifteenth day of October, in the year of our Lord two thousand fifteen, and of the Independence of the United States of America the two hundred and fortieth.

[FR Doc. 2015-26966

Filed 10-20-15; 11:15 am]

Billing code 3295-F6-P